DEPARTMENT OF AGRICULTURE

Forest Service

Caribou-Targhee National Forest; Idaho and Wyoming; Revision of the Notice of Intent To Prepare a Supplemental Environmental Impact Statement

AGENCY: Forest Service, USDA.

ACTION: Revision of the Notice of Intent (NOI) to prepare a Supplemental Environmental Impact Statement for a Forest Plan Amendment to the 1997 Revised Forest Plan for the Targhee National Forest, located in Bonneville, Clark, Fremont, Lemhi, Madison and Teton counties, ID, and Teton and Lincoln counties, WY. The previous Notices of Intent were published in the Federal Register on May 30, 2007 (72(103):29948-29949, as “Big Bend Ridge Vegetation Management Project and Timber Sale Supplemental Environmental Impact Statement and Proposed Targhee Revised Forest Plan Amendment”) and on May 21, 2008 (73(99):29480-29481, as “Supplemental Environmental Impact Statement for the Targhee Revised Forest Plan With Proposed Forest Plan Amendment”).

SUMMARY: The Caribou-Targhee National Forest (Forest) published two notices of intent (May 2007 and May 2008) to prepare a supplemental environmental impact statement (EIS) to amend the 1997 Revised Forest Plan (1997 Plan) for the Targhee portion of the Forest (Targhee). The Forest has revised the proposed amendment and will prepare an EIS instead of a supplemental EIS to amend the 1997 Plan. The revised proposed amendment: (1) Provides direction to maintain the characteristics of old-growth forests where they exist and eliminate a “quota” for old-growth and late-seral forested vegetation by principal watershed or ecological subsection; (2) replaces requirements for maintaining “biological potential” with clear direction for snag retention to provide habitat for cavity-nesting birds; and (3) provides direction to maintain habitat in northern goshawk, boreal owl and great gray owl territories affected by vegetation projects. The Forest believes these new approaches to vegetation management would better provide wildlife habitat. The Forest seeks comments on the revised proposal in order to: (1) Clarify the issues, (2) decide how the proposed amendment may need to be modified, and (3) determine whether or not it is necessary to develop additional alternative(s) for analysis in the draft EIS.

DATES: Comments concerning the scope of this analysis must be received by November 29, 2010. The draft EIS is expected in January 2011. The final EIS is expected in April 2011.

ADDRESSES: Send written comments to Megan Bogle, Forest Planner, Caribou-Targhee National Forest, P.O. Box 777, Driggs, Idaho 83422. Electronic comments can be sent to comments-intermtn-caribou-targhee@fs.fed.us.

FOR FURTHER INFORMATION CONTACT: Megan Bogle, Forest Planner, Caribou-Targhee National Forest, P.O. Box 777, Driggs, Idaho 83422. Additional information on the proposed Plan Amendment may be accessed by clicking on the “NEPA documents for projects” link on the Forest Web site: http://www.fs.fed.us/r4/caribou-targhee/projects/.

Individuals who use telecommunication devices for the deaf (TDD) may call the Federal Information Relay Service (FIRS) at 800-877-8339 between 8 a.m. and 8 p.m., Eastern Time, Monday through Friday.

SUPPLEMENTARY INFORMATION:

Purpose of and Need for the Action

The 1997 Plan includes direction that has proven difficult to implement. Specifically, the 1997 Plan requires 20 percent of forested vegetation be maintained in the old-growth and late-seral age classes in each principal watershed. After much deliberation, the Forest believes that 1997 Plan direction to maintain a certain amount of old-growth and late-seral vegetation does not reflect the ecological capability of the Targhee. Because of the stand characteristics of lodgepole pine and aspen cover types, and the frequency of natural change and disturbances in the ecosystem, some principal watersheds may never meet the 20 percent guideline. Consequently, the Forest proposes to amend the 1997 Plan to maintain old-growth forests where they actually occur.

The concept of biological potential used in the 1997 Plan has also proven problematic because of conflicting requirements at the watershed scale and Management Prescription scale. Clear and practical direction is necessary to ensure that adequate numbers of snags and/or green trees having evidence of cavities, nesting activity, or decadence would be retained where commercial timber harvest occurs.

Additionally, the elimination of redundant guidelines for the management of forested vegetation could clarify the 1997 Plan direction.

Proposed Action

The Forest is proposing to amend the 1997 Plan to create more consistent and clear management direction for old-growth forests and snag retention. The analysis for this amendment will describe habitat relationships for selected wildlife species associated with forested vegetation. These relationships would be described in the proposed amendment and monitored through time to ensure that adequate habitat is maintained for these species. The proposed amendment would include changes to the associated monitoring items and update definitions in the 1997 Plan glossary. The proposed amendment would apply only to the Targhee portion of the Caribou-Targhee National Forest.

The proposed amendment would not authorize or approve any specific actions or activities. Prior to implementing any site-specific projects, the Forest would determine consistency with the 1997 Plan, as amended, to ensure compliance with the National Environmental Policy Act and other applicable laws and regulations. The following amendments to the 1997 Plan are proposed:

Vegetation—Forestwide Direction for Old-Growth Forests

1. Delete the forest-wide guideline for old-growth and late-seral forest stages listed as number 6 and found on pages III-12-13 of the 1997 Plan.

Exception: Retain standard number (6)(3): Use the definition of old-growth characteristics by forest type found in Characteristics of Old-Growth Forests in the Intermountain Region (Hamilton 1993).

2. Replace the guideline in Item 1 above with the following:

a. Prescribed fire and mechanical treatments in old-growth stands shall not reduce old-growth characteristics below the minimum standards described in Characteristics of Old-Growth Forests in the Intermountain Region (Hamilton 1993) and further defined in the March 2, 2007 Regional Forester's letter of clarification (Guideline).″

Exceptions: This guideline does not apply to:

i. Highway and utility corridors where hazard tree removal is necessary for public safety;

ii. Management Prescriptions:

4.1 (Developed Recreation Sites)

4.2 (Special Use Permit Recreation Sites)

4.3 (Dispersed Camping Management)

8.1 (Concentrated Developed Areas)

b. Prescribed fire and mechanical treatments within old-growth stands shall be limited to treatments necessary to sustain old-growth forest composition and structure and improve the likelihood that old-growth forests are retained on the landscape. Examples of these tools are thinning-from-below and under burning to reduce the risk of stand-replacing fire (Guideline).

Wildlife—Direction for Snags/Cavity Nesting Habitat

1. Delete forest-wide guideline numbers 1, 2 and 3 for Snag/Cavity Nesting Habitat listed on pages III-16-17.

2. Delete the Management Prescription guidelines related to snag retention and biological potential for woodpeckers listed in the table below:

Management Prescription | Biological Potential (percent)
2.6.1[a] | Grizzly Bear Habitat (No ASQ, no cross-country, no sheep) (III-98) | 60
2.8.3 | Aquatic Influence Zone (III-109) | 100
3.2[b,c,d,g,i,j] | Semi-primitive Motorized (III-121) | 60
5.1[c] | Timber Management (III-136) | 40
5.1.3[a-b] | Timber Management (No clear-cutting, urban interface) (III-137) | 40
5.1.4[a-d] | Timber Management (Big Game Security Emphasis) (III-139) | 40
5.2.1 | Visual Quality Improvement (III-143) | 40
5.3.5 | Grizzly Bear Habitat (NIC for ASQ, no cross-county, no sheep) (III-148) | 60
5.4[a,b,c] | Elk Summer Range (III-153) | 60

3. Replace the guidelines listed in items 1 and 2 above with:

a. Commercial timber harvest will not reduce the number of snags and/or green trees below the numbers in the table below. This will be calculated as an average for the total treatment unit acres within a project area to allow variability between treatment units and retain a more natural, clumped distribution of snags and green trees (Guideline).″

Vegetation category (SAF cover type¹) | Minimum average snags and/or green trees per acre to retain: >= 8″ dbh² | Minimum average snags and/or green trees per acre to retain: >= 12″ dbh | Minimum average snags and/or green trees per acre to retain: Total
Aspen | 8.3 | N/A | 8.3
Cottonwood | 3.2 | 4.9 | 8.1
Douglas-fir and Spruce-Fir | 3.7 | 5.5 | 9.2
Lodgepole pine | 8.7 | N/A | 8.7

Exceptions: This guideline does not apply to:

¹ Eyre, F.H. editor 1980 Cover Types of the United States and Canada Society of American Foresters, Washington D.C. pp 80-141.

² dbh: diameter at breast height.

i. Designated personal-use firewood areas;

ii. Highway and utility corridors where hazard tree removal is necessary for public safety;

iii. Management Prescriptions:

4.1 (Developed Recreation Sites)

4.2 (Special Use Permit Recreation Sites)

4.3 (Dispersed Camping Management)

8.1 (Concentrated Developed Areas)

b. Large diameter snags and/or green trees having evidence of cavities, nesting activity, or decadence would be given priority for retention (Guideline).

c. Public workforce and contractor safety will be considered and provided for in selecting the arrangement of retained snags and trees (Standard).

Wildlife—Forestwide Direction for Northern Goshawk, Boreal and Great Gray Owl Habitat

1. Delete the forest-wide standards and guidelines for northern goshawk habitat (entire table on III-21), guideline number 2 for boreal owl habitat (III-22) and standard number 2 for great gray owl habitat (III-22).

2. Replace the above standards and guidelines with the following guideline:

a. Utilize site-specific data to predict whether a proposed project may negatively impact Northern goshawks, boreal owls, and/or great gray owls, and whether habitat occurs within the project area. If there is habitat and the species may be negatively impacted by the project:

i. Survey for the presence of Northern goshawks, boreal owls and/or great gray owls at least once prior to project implementation.

ii. Design projects to maintain adequate amounts of habitat in known territories.

Big Hole Subsection and Caribou Subsection—Guidelines for Old-Growth

1. Delete the following guideline applicable in both subsections: “Within one mile of the Palisades Reservoir and the South Fork of the Snake River, emphasis will be given to managing old-growth Douglas-fir, spruce and cottonwood habitats for wildlife species” (III-61 and 62).

Monitoring

The proposed amendment would update the 1997 Plan monitoring requirements related to the proposed above changes (Chapter V).

Glossary and Definitions

The proposed amendment would update 1997 Plan definitions related to the above changes (Glossary).

Name and Address of the Responsible Official

Brent Larson, Forest Supervisor, 1405 Hollipark Drive, Idaho Falls, ID 83445.

Nature of the Decision To Be Made (See FSH 1909.15, section 11.22)

The decision to be made is to approve the proposed amendment to the 1997 Plan; approve a modification of the proposed amendment; or not to amend the 1997 Plan at this time.

Description of the Scoping Process

This corrected NOI continues the scoping process, which guides the development of the EIS.

Applicable Planning Rule

On December 18, 2009 the Department reinstated the previous planning rule, commonly known as the 2000 planning rule in the Federal Register (Federal Register, Volume 74, No. 242, Friday, December 18, 2009, pages 67059 thru 67075). The transition provisions of the reinstated rule (36 CFR 219.35 and appendices A and B) allow use of the provisions of the National Forest System land and resource management planning rule in effect prior to the effective date of the 2000 Rule (November 9, 2000), commonly called the 1982 planning rule, to amend or revise plans. The Caribou-Targhee National Forest has elected to use the provisions of the 1982 planning rule including the requirement to prepare an EIS, to complete its plan revision.

Authority: 16 U.S.C. 1600-1614; 36 CFR 219.35 (74 FR 67073-67074).

Dated: October 22, 2010.
Brent Larson,
Forest Supervisor.

[FR Doc. 2010-27334 Filed 10-28-10; 8:45 am]

BILLING CODE 3410-11-P